DEPARTMENT OF AGRICULTURE

Rural Housing Service

Notice of Funds Availability for Section 514 Farm Labor Housing Loans and Section 516; Farm Labor Housing Grants for Off-farm Housing for Fiscal Year (FY) 2013

AGENCY: Rural Housing Service, USDA.

ACTION: Notice; correction.

SUMMARY: The Rural Housing Service is correcting a notice published on August 14, 2013, (78 FR 49460-49467). This action is taken to correct two “submission deadline” dates.

FOR FURTHER INFORMATION CONTACT: Mirna Reyes-Bible, Finance and Loan Analyst, Multi-Family Housing Preservation and Direct Loan Division, STOP 0781 (Room 1263-S), USDA Rural Development, 1400 Independence Avenue SW., Washington, DC 20250-0781, telephone: (202) 720-1753 (this is not a toll free number.), or via email: Mirna.ReyesBible@wdc.usda.gov.

SUPPLEMENTARY INFORMATION:

Correction

Accordingly, the Notice published August 14, 2013, (78 FR 49460-49467), is corrected as follows: On page 49461, the third column, under the heading “A. Pre-Application Submission”, the sixth sentence is amended to read:

No pre-application will be accepted after 5 p.m., local time to the appropriate Rural Development State offices on September 13, 2013 unless date and time are extended by another Notice published in the Federal Register.

On page 49462, the second column, under the heading “3. Hard Copy Submission to the Rural Development State Office.”, the third sentence is amended to read:

Hard copy pre-applications must be received by the submission deadline and no later than 5 p.m., local time, September 13, 2013.

Dated: August 23, 2013.
Richard A. Davis,
Acting Administrator, Rural Housing Service.

[FR Doc. 2013-21503 Filed 9-4-13; 8:45 am]

BILLING CODE 3410-XV-P